SMALL BUSINESS ADMINISTRATION

Small Business Size Standards: Waiver of the Nonmanufacturer Rule

AGENCY: U.S. Small Business Administration.

ACTION: Notice Denying a Request for a Waiver of the Nonmanufacturer Rule for Re-Refining Used Petroleum Lubricating Oils (MIL-PRF-2104; Type 10W, Type 15W40, Type 30W and Type 40W).

SUMMARY: The U.S. Small Business Administration (SBA) is denying the request for a class waiver of the Nonmanufacturer Rule for Re-Refining Used Petroleum Lubricating Oils (MIL-PRF-2104; Type 10W, Type 15W40, Type 30W and Type 40W), under the NAICS code 324191. The basis for this denial is that SBA has determined that this request is for a product in a specific solicitation, rather than for a class of products within a subdivision within a North American Industry Classification, as is required for class waivers under 13 CFR 121.1202(d).

DATES: This notice is effective immediately.

FOR FURTHER INFORMATI0N CONTACT: Sarah L. Ayers, Program Analyst, by telephone at (202) 205-6413; by FAX at (202) 292-3771; or by e-mail at sarah.ayers@sba.gov.

SUPPLEMENTARY INFORMATION: The SBA received a request on December 12, 2006, to waive the Nonmanufacturer Rule for Re-Refining Used Petroleum Lubricating Oils (MIL-PRF-2104; Type 10W, Type 15W40, Type 30W and Type 40W) prompted by a Defense Supply Center Richmond (DSCR) solicitation.

In response, on January 5, 2007, SBA published in the Federal Register, Vol. 72, No. 3, a notice of intent to waive the Nonmanufacturer Rule for Re-Refining Used Petroleum Lubricating Oils (MIL-PRF-2104; Type 10W, Type 15W40, Type 30W and Type 40W). SBA explained in the notice that it was soliciting comments and sources of small business manufacturers for the products described in the request. SBA received one comment. The commenter indicated that one company currently supplies re-refined engine oils to the Federal government, and this same company also supplies several distributors with re-refined lubricating oils. The commenter also indicated the knowledge of two other companies that have supplied re-refined lubricating oils to the Federal market within the last 24 months. However, these companies did not wish to identify themselves or their contracting history to SBA for review. Based on SBA's review of the comments received, and its further examination of the waiver request, SBA is denying the requested class waiver because it does not seek a waiver for a “class of products” within the contemplation of 13 CFR 121.1202(d). In particular, a “class of products” for purposes of the class waiver procedures provided in 13 CFR 121.1204(a), is comprised of products within a “subdivision under a NAICS Industry Number.” See 13 CFR 121.1202(d). By contrast, the individual waiver procedures under 13 CFR 121.1204(b) apply when a request for a waiver of the Nonmanufacturer Rule is “for a product in a specific solicitation.” See 13 CFR 121.1203. Since the instant request is “for a product in a specific solicitation,” it is governed by the procedures for an individual waiver under 13 CFR 121.1204(b). According to that provision, only a contracting officer may request an individual waiver for a specific solicitation.

SBA is therefore denying the instant request for a class waiver because it constitutes a request for an “individual waiver for a product in a specific solicitation,” which must be initiated by a contracting officer pursuant to 13 CFR 121.1204(b).

Authority: 15 U.S.C. 637(a)(17).

Arthur E. Collins,
Acting Director for Government Contracting.

[FR Doc. E7-7454 Filed 4-18-07; 8:45 am]

BILLING CODE 8025-01-P